OFFICE OF THE UNITED STATES TRADE REPRESENTATIVE

[Docket No. WTO/DS-338]

WTO Dispute Settlement Proceeding Regarding Canada—Provisional Antidumping and Countervailing Duties on Grain Corn From the United States

AGENCY: Office of the United States Trade Representative.

ACTION: Notice; request for comments.

SUMMARY: The Office of the United States Trade Representative (USTR) is providing notice that on March 17, 2006, in accordance with the Marrakesh Agreement Establishing the World Trade Organization (“WTO Agreement”), the United States requested consultations regarding Canada's provisional antidumping and countervailing duties on imports of unprocessed grain corn from the United States. That request may be found at http://www.wto.org contained in a document designated as WT/DS338/1. USTR invites written comments from the public concerning the issues raised in this dispute.

DATES: Although USTR will accept any comments received during the course of the consultations, comments should be submitted on or before May 12, 2006 to be assured of timely consideration by USTR.

ADDRESSES: Comments should be submitted (i) electronically, to FR0614@ustr.gov, with “Canada Corn Preliminary Injury (DS338)” in the subject line, or (ii) by fax, to Sandy McKinzy at (202) 395-3640, with a confirmation copy sent electronically to the electronic mail address above, in accordance with the requirements for submission set out below.

FOR FURTHER INFORMATION CONTACT: David Yocis, Assistant General Counsel, Office of the United States Trade Representative, 600 17th Street, NW., Washington, DC 20508, (202) 395-6150.

SUPPLEMENTARY INFORMATION: Section 127(b) of the Uruguay Round Agreements Act (URAA) (19 U.S.C. 3537(b)(1)) requires that notice and opportunity for comment be provided after the United States submits or receives a request for the establishment of a WTO dispute settlement panel. In an effort to provide additional opportunity for comment, USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by the United States

On March 17, 2006, the United States requested consultations regarding Canada's provisional antidumping and countervailing duties on unprocessed grain corn from the United States and certain related measures. Those measures include:

• The imposition of provisional antidumping and countervailing duties on imports of unprocessed grain corn from the United States on December 15, 2005 (Canada Gazette, Part I, Vol. 153, No. 53, p. 4321, published December 31, 2005), including the preliminary determination of injury by the Canadian International Trade Tribunal (CITT) on November 15, 2005 (Canada Gazette, Part I, Vol. 153, No. 48, p. 3891, published November 26, 2005) and the accompanying Statement of Reasons, released on November 30, 2005 and available on the CITT's Web site at ftp://ftp.citt-tcce.gc.ca/doc/english/Dumping/PreInq/determin/pi2f001_e.pdf; and

• The Special Import Measures Act, R.S. 1985, c. S-15, and any amendments, implementing measures, and related measures.

In its preliminary injury determination, the CITT did not address or otherwise refer to certain factors mandated by the WTO agreements, such as the volume of imports, the price of imports, and the impact of imports on the domestic industry. In addition, the CITT expressly decided not to analyze the evidence before it with respect to causation, including the causal link between imports and injury and injury caused by factors other than imports. Instead, the CITT decision is based entirely on a supposed correlation between past injury to the Canadian domestic industry with past and projected future declines in the U.S. domestic price of grain corn, rather than the mandatory factors in the agreements. Further, the Special Import Measures Act would appear to require the imposition of antidumping and countervailing duties upon a CITT finding that the “dumping and subsidizing” of subject goods, including alleged effects of subsidies on the domestic prices of those goods in the market of the dumping or subsidizing country, have injured Canada's domestic industry, even in the absence of any finding of injury caused by dumped or subsidized imports as provided for in the WTO agreements.

USTR believes these measures are inconsistent with Canada's obligations under Articles 1, 3, and 7 of the Agreement on Implementation of Article VI of the General Agreement on Tariffs and Trade 1994 (“AD Agreement”), Articles 10, 15, and 17 of the Agreement on Subsidies and Countervailing Measures (“SCM Agreement”), and Article VI of the General Agreement on Tariffs and Trade 1994.

Public Comment: Requirements for Submissions

Interested persons are invited to submit written comments concerning the issues raised in the dispute. Comments should be submitted (i) electronically, to FR0614@ustr.gov, with “Canada Corn Preliminary Injury (DS338)” in the subject line, or (ii) by fax, to Sandy McKinzy at (202) 395-3640, with a confirmation copy sent electronically to the electronic mail address above.

USTR encourages the submission of documents in Adobe PDF format as attachments to an electronic mail. Interested persons who make submissions by electronic mail should not provide separate cover letters; information that might appear in a cover letter should be included in the submission itself. Similarly, to the extent possible, any attachments to the submission should be included in the same file as the submission itself, and not as separate files.

Comments must be in English. A person requesting that information contained in a comment submitted by that person be treated as confidential business information must certify that such information is business confidential and would not customarily be released to the public by the commenter. Confidential business information must be clearly designated as such and “BUSINESS CONFIDENTIAL” must be marked at the top and bottom of the cover page and each succeeding page. Persons who submit confidential business information are encouraged to also provide a non-confidential summary of the information.

Information or advice contained in a comment submitted, other than business confidential information, may be determined by USTR to be confidential in accordance with section 135(g)(2) of the Trade Act of 1974 (19 U.S.C. 2155(g)(2)). If the submitter believes that information or advice may qualify as such, the submitter.

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel and, if applicable, the report of the Appellate Body. An appointment to review the public file (Docket WTO/DS-338, Canada Corn Dispute) may be made by calling the USTR Reading Room at (202) 395-6186. The USTR Reading Room is open to the public from 9:30 a.m. to noon and 1 p.m. to 4 p.m., Monday through Friday.

Daniel Brinza,
Assistant United States Trade Representative for Monitoring and Enforcement.

[FR Doc. E6-6221 Filed 4-25-06; 8:45 am]

BILLING CODE 3190-W6-P